DEPARTMENT OF HOMELAND SECURITY

[Docket No. DHS-2012-0013]

Agency Information Collection Activities: Submission for Review; Information Collection Extension Request for the DHS S&T First Responders Community of Practice Program

AGENCY: Science and Technology Directorate, DHS.

ACTION: 60-day Notice and request for comment.

SUMMARY: The Department of Homeland Security (DHS) invites the general public to comment on the data collection form for the DHS Science & Technology (S&T) First Responders Community of Practice (FRCoP): User Registration Page (DHS Form 10059 (9/09)). The FRCoP web based tool collects profile information from first responders and select authorized non-first responder users to facilitate networking and formation of online communities. All users are required to authenticate prior to entering the site. In addition, the tool provides members the capability to create wikis, discussion threads, blogs, documents, etc., allowing them to enter and upload content in accordance with the site's Rules of Behavior. Members are able to participate in threaded discussions and comment on other members' content. The DHS S&T FRCoP program is responsible for providing a collaborative environment for the first responder community to share information, best practices, and lessons learned. Section 313 of the Homeland Security Act of 2002 (Pub. L. 107-296) established this requirement. The program would like to add one more field to the registration. The new field will be titled: Country of First Responder Affiliation. This notice and request for comments is required by the Paperwork Reduction Act of 1995 (Pub. L. 104-13, 44 U.S.C. Chapter 35). This notice and request for comments is required by the Paperwork Reduction Act of 1995 (Pub. Law 104-13, 44 U.S.C. chapter 35).

DATES: Comments are encouraged and will be accepted until August 18, 2014.

ADDRESSES: Interested persons are invited to submit comments, identified by docket number DHS-2012-0013, by one of the following methods:

• Federal eRulemaking Portal: http://www.regulations.gov. Please follow the instructions for submitting comments.

• Email: Kathy.Higgins@hq.dhs.gov. Please include docket number DHS-2012-0013 in the subject line of the message.

• Fax: (202) 254-6171. (Not a toll-free number).

• Mail: Science and Technology Directorate, Attn: Chief Information Officer—Rick Stevens, 1120 Vermont Ave., Mail Stop 0202, Washington, DC 20005.

FOR FURTHER INFORMATION CONTACT: DHS FRCoP Contact Kathy Higgins (202) 254-2293 (Not a toll free number).

SUPPLEMENTARY INFORMATION: DHS S&T currently has approval to collect information utilizing the User Registration Form until October 31, 2013 with OMB approval number 1640-0016. The User Registration Form will be available on the First Responders Community of Practice Web site found at [https://communities.firstresponder.gov/]. The user will complete the form online and submit it through the Web site.

The Department is committed to improving its information collection and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: Renewal of Information Collection.

(2) Title of the Form/Collection: First Responders Community of Practice: User Registration Form.

(3) Agency Form Number, if any, and the applicable component of the Department of Homeland Security sponsoring the collection: DHS Science & Technology Directorate, R-Tech (RTD), DHS Form 10059 (09/09).

(4) Affected public who will be asked or required to respond, as well as a brief abstract: Individuals; the data will be gathered from individual first responders who wish to participate in the First Responders Community of Practice.

(5) An estimate of the total number of respondents and the amount of time estimated for an average respondent to respond:

a. Estimate of the total number of respondents: 2,000.

b. An estimate of the time for an average respondent to respond: 0.5 burden hours.

c. An estimate of the total public burden (in hours) associated with the collection: 1,000 burden hours.

Dated: May 22, 2014.
Rick Stevens,
Chief Information Officer for Science and Technology.

[FR Doc. 2014-14078 Filed 6-16-14; 8:45 am]

BILLING CODE 9110-9F-P